NUCLEAR REGULATORY COMMISSION

[NRC-2023-0096]

NUREG: Issuance of Revised Subsequent License Renewal Guidance Documents

AGENCY: Nuclear Regulatory Commission.

ACTION: Final report; issuance.

SUMMARY: The U.S. Nuclear Regulatory Commission (NRC) is issuing revised Subsequent License Renewal (SLR) Guidance Documents; which consists of NUREG-2191, “Generic Aging Lessons Learned for Subsequent License Renewal (GALL-SLR) Report, Final Report,” Revision 1, Volumes 1 and 2; NUREG-2192, “Standard Review Plan for Review of Subsequent License Renewal Applications for Nuclear Power Plants (SRP-SLR), Final Report,” Revision 1; and NUREG-2221, “Technical Bases for Changes in the Subsequent License Renewal Guidance Documents, NUREG-2191, Revision 1, and NUREG-2192, Revision 1 (Technical Bases Document),” Supplement 1. The GALL-SLR Report, Revision 1, and the SRP-SLR, Revision 1, provide revised guidance for nuclear power reactor licensees to the methods acceptable for the NRC staff to grant a subsequent license renewal in accordance with the license renewal regulations. The Technical Bases Document, Supplement 1, provides the associated technical bases of changes for the revisions.

DATES: This document was published in the Federal Register on July 17, 2025.

ADDRESSES: Please refer to Docket ID NRC-2023-0096 when contacting the NRC about the availability of information regarding this document. You may obtain publicly available information related to this document using any of the following methods:

• Federal Rulemaking Website: Go to https://www.regulations.gov and search for Docket ID NRC-2023-0096. Address questions about Docket IDs in Regulations.gov to Bridget Curran; telephone: 301-415-1003; email: Bridget.Curran@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Emmanuel Sayoc, Office of Nuclear Reactor Regulation, U.S. Nuclear Regulatory Commission, Washington, DC 20555-0001; telephone: 301-415-4084; email: Emmanuel.Sayoc@nrc.gov.

SUPPLEMENTARY INFORMATION:

I. Discussion

Section 54.29 of title 10 of the Code of Federal Regulations (10 CFR) establishes the standards for issuance of a renewed license. For nuclear power plants that have received a renewed license, the regulations in 10 CFR 54.31(d) state that “[a] renewed license may be subsequently renewed in accordance with all applicable requirements.” The GALL-SLR Report was originally issued in 2017 to provide guidance for subsequent license renewals. The GALL-SLR Report lists generic aging management reviews of systems, structures, and components (SSCs) that may be in the scope of subsequent license renewal applications (SLRAs) and identifies aging management programs (AMPs) that are determined to be acceptable for managing the effects of aging on SSCs in the scope of license renewal, as required by 10 CFR part 54, “Requirements for Renewal of Operating Licenses for Nuclear Power Plants.” If an applicant credits an AMP described in the GALL-SLR Report in the SLRA, the applicant should ensure that the conditions and operating experience (OE) at the plant are bound by the conditions and OE for which the GALL-SLR Report program was evaluated. If these bounding conditions are not met, the applicant should address any additional aging effects and augment the AMPs for subsequent license renewal.

The SRP-SLR is a companion document, and intended to be used with the GALL-SLR Report. If an SLRA references the approach described in the GALL-SLR Report as the approach used for managing the aging effect(s), the NRC staff will use the GALL-SLR Report as a basis for the SLRA assessment, consistent with guidance specified in the SRP-SLR. The principal purposes of the SRP-SLR are to ensure the quality and uniformity of the NRC staff review and to present a well-defined base from which to evaluate applicant programs and activities for the subsequent period of extended operation. The SRP-SLR is also intended to make regulatory information widely available to enhance communication with interested members of the public and the nuclear power industry and to improve their understanding of the NRC staff review process.

After the initial issuance of the GALL-SLR Report, Revision 0, and SRP-SLR, Revision 0, in 2017 (82 FR 32588), several documents referred to as Subsequent License Renewal Interim Staff Guidance (SLR-ISGs) were created to reflect new or updated industry guidance, codes, or standards; relevant plant operating experience; incorporation of lessons learned from completed SLR application reviews; development of new aging management programs or aging management review items; and identification of required corrections and clarifications to the guidance. GALL-SLR Report, Revision 1, and SRP-SLR, Revision 1, incorporate the issued SLR-ISGs, as well as additional updates identified subsequent to issuance of the SLR-ISGs.

The NRC published a notice in the Federal Register on July 11, 2023 (88 FR 44160) requesting public comments on draft SLR Guidance Documents. The public comment period was extended on September 7, 2023 (88 FR 61628) and closed on October 11, 2023. The NRC received 203 public comments. The public comments and the NRC staff's responses dispositioning these comments are presented in GALL-SLR Report, Volume 2, Revision 1, Appendix C, and includes a comment resolution matrix. The NRC's resolution of these comments are incorporated into the final GALL-SLR Report, Revision 1 and the SRP-SLR, Revision 1, with associated technical bases of changes provided in the Technical Bases Document, Supplement 1.

II. Congressional Review Act

This NUREG is a rule as defined in the Congressional Review Act (5 U.S.C. 801-808). The Office of Management and Budget has found that it does not meet the criteria at 5 U.S.C. 804(2).

III. Executive Order (E.O.) 12866

The Office of Information and Regulatory Affairs determined that this NUREG is not a significant regulatory action under E.O. 12866.

IV. Availability of Documents

Document description | ADAMS accession No.
NUREG-2191, “Generic Aging Lessons Learned for Subsequent License Renewal (GALL-SLR), Final Report,” Revision 1, Volume 1, published July 2025 | ML25113A021
NUREG-2191, “Generic Aging Lessons Learned for Subsequent License Renewal (GALL-SLR), Final Report,” Revision 1, Volume 2, published July 2025 | ML25113A022
NUREG-2192, “Standard Review Plan for Review of Subsequent License Renewal Applications for Nuclear Power Plants, Final Report,” Revision 1, published July 2025 | ML25113A023
NUREG-2221, “Technical Bases for Changes in the Subsequent License Renewal Guidance Documents, NUREG-2191, Revision 1, and NUREG-2192, Revision 1,” Supplement 1, published July 2025 | ML25113A024

Dated: July 14, 2025.
For the Nuclear Regulatory Commission.
Michele Sampson,
Director, Division of New and Renewed Licenses, Office of Nuclear Reactor Regulation.

[FR Doc. 2025-13388 Filed 7-16-25; 8:45 am]

BILLING CODE 7590-01-P